DEPARTMENT OF DEFENSE

Office of the Secretary

[Transmittal No. 24-69]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b)(1) arms sales notification is published to fulfill the requirements of section 155 of Public Law 104-164 dated July 21, 1996. The following is a copy of a letter to the Speaker of the House of Representatives with attached Transmittal 24-69 and Policy Justification.

Dated: December 10, 2025.
Stephanie J. Bost,
Alternate OSD Federal Register Liaison Officer, Department of Defense.

BILLING CODE 6001-FR-P

BILLING CODE 6001-FR-C

Transmittal No. 24-69

Notice of Proposed Issuance of Letter of Offer Pursuant to Section 36(b)(1) of the Arms Export Control Act, as amended

(i) Prospective Purchaser: Government of Poland

(ii) Total Estimated Value:

Major Defense Equipment * | $ 0 million
Other | $105 million
TOTAL | $105 million

Funding Source: National Funds

(iii) Description and Quantity or Quantities of Articles or Services under Consideration for Purchase:

Major Defense Equipment (MDE):

None

Non-MDE:

Mobile Ground Control Approach (GCA-2000) systems, which consist of ultra-high frequency radios; AN/UPX interrogators; radio navigation equipment; test equipment; precision navigation; spare and repair parts; consumables; accessories; warranties; publications and technical documentation; personnel training and training support; studies and surveys; United States (U.S.) Government and contractor engineering, technical, and logistics support services; and other related elements of logistics and program support.

(iv) Military Department: Air Force (PL-D-DBJ)

(v) Prior Related Cases, if any: PL-D-DAY

(vi) Sales Commission, Fee, etc., Paid, Offered, or Agreed to be Paid: None known at this time

(vii) Sensitivity of Technology Contained in the Defense Article or Defense Services Proposed to be Sold: None

(viii) Date Report Delivered to Congress: November 1, 2024

* as defined in Section 47(6) of the Arms Export Control Act.

POLICY JUSTIFICATION

Poland—Mobile Ground Control Approach Systems

The Government of Poland has requested to buy mobile Ground Control Approach (GCA-2000) systems, which consist of ultra-high frequency radios; AN/UPX interrogators; radio navigation equipment; test equipment; precision navigation; spare and repair parts; consumables; accessories; warranties; publications and technical documentation; personnel training and training support; studies and surveys; U.S. Government and contractor engineering, technical, and logistics support services; and other related elements of logistics and program support. The estimated total cost is $105 million.

This proposed sale will support the foreign policy goals and national security of the U.S. by improving the security of a NATO Ally that is a force for political and economic stability in Europe.

The proposed sale will improve Poland's capability to meet current and future threats by bolstering its capabilities in air traffic control and reinforcing its commitment to provide secure and effective aviation services in accordance with international norms, while expanding its national defense capabilities and supporting the common defense of NATO. Poland will have no difficulty absorbing these additional systems into its armed forces.

The proposed sale of this equipment and support will not alter the basic military balance in the region.

The principal contractor will be L3Harris, located in Melbourne, FL. There is no known offset agreement proposed in connection with this potential sale. Any offset agreement will be defined in negotiations between the purchaser and the contractor.

Implementation of this proposed sale will not require the assignment of any additional U.S. Government or contractor representatives to Poland.

There will be no adverse impact on U.S. defense readiness as a result of this proposed sale.

[FR Doc. 2025-22721 Filed 12-12-25; 8:45 am]

BILLING CODE 6001-FR-P